DEPARTMENT OF ENERGY

Federal Energy Regulatory Commission

[Docket No. CP00-389-000]

ONEOK WestTex Transmission, Inc.; Notice of Application

June 23, 2000.

Take notice that on June 13, 2000, ONEOK WestTex Transmission, Inc. (WesTex), 100 West Fifth Street, P.O. Box 871, Tulsa, Oklahoma 74102, a Hinshaw pipeline, filed in Docket No. CP00-389-000 an application pursuant to section 284.224(b) of the Commission's regulations, seeking confirmation that it has a blanket certificate, or in the alternative to grant such a blanket certificate. This filing may be viewed on the web at http://www.ferc.fed.us/online/rims,htm (call 202-208-2222).

Any person desiring to be heard or to make any protest with reference to said application should on or before July 10, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Linwood A. Watson, Jr.,
Acting Secretary.

[FR Doc. 00-16419 Filed 6-28-00; 8:45 am]

BILLING CODE 6717-01-M